DEPARTMENT OF COMMERCE

National Oceanic and Atmospheric Administration

RIN 0648-XG314

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species Management Team (CPSMT) will hold a meeting via webinar that is open to the public.

DATES: The webinar will be held Monday July 23, 2018, from 2 p.m. to 4 p.m., or until business has been completed.

ADDRESSES: The meeting will be held via webinar. A public listening station is available at the Pacific Council office (address below). To attend the webinar, use this link: https://www.gotomeeting.com/webinar (click “Join a Webinar” in top right corner of page); (1) Enter the Webinar ID: 683-377-106; (2) Enter your name and email address (required). You must use your telephone for the audio portion of the meeting by dialing this TOLL number: 1-631-992-3221; (3) Enter the Attendee phone audio access code 217-555-003; (4) Enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is for the CPSMT to develop a range of alternatives for an amendment to the CPS Fishery Management Plan that would address changes in the catch allowances for the CPS live bait fishery when a CPS stock is in an overfished condition. The Council established a process that includes adopting a range of alternatives at the September 2018 meeting and final action at the November 2018 meeting. As time allows, the CPSMT may discuss other topics on the agenda for the Council's September meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at kris.kleinschmidt@noaa.gov; telephone: (503) 820-2411 at least 10 days prior to the meeting date.

Dated: June 27, 2018.
Tracey L. Thompson,
Acting Deputy Director, Office of Sustainable Fisheries, National Marine Fisheries Service.

[FR Doc. 2018-14134 Filed 6-29-18; 8:45 am]

BILLING CODE 3510-22-P